DEPARTMENT OF ENERGY

Bonneville Power Administration

Crystal Springs Hatchery Program

AGENCY: Bonneville Power Administration (BPA), Department of Energy (DOE).

ACTION: Notice of intent to prepare an Environmental Impact Statement (EIS) and notice of floodplain and wetlands assessment.

SUMMARY: In accordance with the National Environmental Policy Act (NEPA), BPA intends to prepare an EIS on its decision whether to fund the Shoshone-Bannock Tribes of the Fort Hall Reservation of Idaho (Tribes) proposal to construct and operate a hatchery for spring/summer Chinook salmon in the Salmon River subbasin and Yellowstone cutthroat trout in the Upper Snake River subbasin on Fort Hall Reservation.

The Tribes' proposed project that BPA is considering funding would involve construction of a hatchery and construction of two fish trapping (weir) facilities on US Forest Service (USFS) land. The hatchery would be constructed at the site of an obsolete trout hatchery owned by BPA on Crystal Springs in Bingham County, Idaho. The weirs would involve construction of a weir in the Yankee Fork of the Salmon River at the USFS Pole Flat Campground in Custer County, relocation of a section of Yankee Fork Road and associated facilities (RV pads), and construction of a weir on USFS land in Panther Creek in Lemhi County, Idaho. The USFS will be a cooperating agency on this EIS to inform their decision on whether to grant a special use permit for construction and operation of the two weirs and associated facilities and relocation of the road on forest service lands.

Operations of the hatchery would include collection of adult spring/summer Chinook for broodstock from existing hatcheries, incubation and rearing of juvenile Chinook, and release of smolts into the Yankee Fork and Panther Creek. Over time, broodstock would be collected at the Yankee Fork and Panther Creek weirs. Chinook were extirpated from Panther Creek in the mid-1900s. In 1992, Chinook salmon native to Yankee Fork were listed as threatened under the Endangered Species Act (ESA); currently the population is classified at high risk of extinction and has been identified as an independent population of Snake River spring/summer Chinook salmon. The proposal would augment anadromous fish populations available for harvest and aid in establishing a naturally spawning Chinook population.

The hatchery would also produce up to 5,000 resident Yellowstone cutthroat trout for release in an isolated oxbow lake within the Fort Hall Reservation permit fishing area in the upper Snake River subbasin. Biologists would monitor Chinook salmon in Yankee Fork and Panther Creek and Yellowstone cutthroat trout in the oxbow lake to inform decisions on hatchery operations.

With this Notice of Intent, BPA is initiating the public scoping process for the EIS. BPA and the USFS are requesting comments about potential environmental impacts that should be considered as an EIS is prepared.

In accordance with DOE regulations for compliance with floodplain and wetlands environmental review requirements, BPA will prepare a floodplain and wetlands assessment to avoid or minimize potential harm to or within any affected floodplains and wetlands. The assessment will be included in the EIS.

DATES: Written comments are due to the ad dress below no later than July 7, 2014. Comments may also be made at one of the three EIS scoping meetings to be held on June 10, 2014, June 11, 2014, and June 12, 2014 at the addresses below.

ADDRESSES: Comments on the proposed scope of the Draft EIS for funding this Tribal project and requests to be placed on the project mailing list may be mailed by letter to Bonneville Power Administration, Public Affairs Office—DKE-7, P.O. Box 14428, Portland, OR 97292-4428, or by fax to 503-230-4019. You also may call BPA's toll-free comment line at 1-800-622-4519 and leave a message (please include the name of this project), or submit comments online at www.bpa.gov/comment. All comment letters will be available via the project Web site at www.bpa.gov/goto/CrystalSprings.

On June 10, 2014, a scoping meeting will be held from 6:00 p.m. to 8:00 p.m. at the Shoshone-Bannock Hotel & Events Center, I-15 Exit 80, Simplot Rd, Fort Hall, Idaho 83203. Additional scoping meetings will be held on June 11, 2014 from 6:00 p.m. to 8:00 p.m. at the USFS Office, 1206 S. Challis Street Salmon, ID; and on June 12, 2014 from 6:00 p.m. to 8:00 p.m. at the USFS Office, 311 N. US HWY 93, Challis, ID. At these informal open-house meetings, we will have project information, maps, and members of the project team available to answer questions and accept verbal and written comments.

Forest Service Objection Process: The final EIS and USFS draft decision will be completed and mailed to those who have submitted comments, and to those who have requested to be included on the project mailing list. A copy of the final EIS and draft decision is planned to be mailed in early 2016.

The project implements land management plans and is not authorized under the Healthy Forest Restoration Act and is subject to 36 Code of Federal Register (CFR) 218.7 (a) and (b). There will be an objection process before the final USFS decision is made and after the final EIS and draft decision are mailed (reference 36 CFR part 218). In order to be eligible to file an objection, specific written comments related to the project must be submitted during scoping, by the comment period on the draft EIS in accordance with procedures in 40 CFR 1506.10, and any other periods public comment is specifically requested on this EIS (36 CFR 218.5). Individual members of organizations must have submitted their own comments to meet the requirements of eligibility as an individual. Objections received on behalf of an organization are considered as those of the organization only. Names and addresses of those who comment and/or file objections will become part of the public record.

For more information on how the objection process works for projects and activities implementing land and resource management plans and the requirements, contact Mary Hammer at 208-756-5109, email marylhammer@fs.fed.us, or you may read the regulations under 36 CFR part 218, subparts A and B on the National Forest Service Web site at http://www.gpo.gov/fdsys/pkg/FR-2013-03-27/pdf/2013-06857.pdf.

The environmental analysis will be mailed out to those who respond to this notice of intent, the scoping letter, to those who have requested the document, or are eligible to file an objection in accordance with 36 CFR 218.5(a).

FOR FURTHER INFORMATION CONTACT: Don Rose, Environmental Coordinator, Bonneville Power Administration—KEC-4, P.O. Box 3621, Portland, Oregon 97208-3621; toll-free telephone 1-800-282-3713; direct telephone 503-230-3796; or email dlrose@bpa.gov or Joe DeHerrera, Project Manager, Bonneville Power Administration—KEC-4, P.O. Box 3621, Portland, Oregon, 97208-3621; toll-free telephone number 1-800-622-4519; fax number 503-230-5699; email jldeherrera@bpa.gov. For questions specifically for the USFS, contact Mary Hammer at 208-756-5109, or email at marylhammer@fs.fed.us. Additional information can be found at the project Web site: www.bpa.gov/goto/CrystalSprings.

SUPPLEMENTARY INFORMATION: BPA's funding of the Tribes' project would support efforts to protect, mitigate, and enhance fish and wildlife affected by the development and operation of the Federal Columbia River Power System in the mainstem Columbia River and its tributaries pursuant to the Pacific Northwest Electric Power Planning and Conservation Act of 1980 (Act) (16 U.S.C. 839b(h)(10)). The Act requires BPA to fund fish and wildlife protection, mitigation, and enhancement actions consistent with the Northwest Power and Conservation Council's (Council) Fish and Wildlife Program and the purposes of the Act. Under this program, the Council makes recommendations to BPA concerning which fish and wildlife projects to fund. The Tribes' proposed project is one of those projects recommended to BPA by the Council. BPA obligated to fund the Tribes' proposed project in the 2008 Shoshone-Bannock Tribes Fish Accord Memorandum of Agreement, and made funding contingent on satisfactory completion of applicable environmental compliance, such as NEPA. The Tribes's proposal is also consistent with BPA's Fish and Wildlife Implementation Plan policy which calls for protecting weak stocks, like the Salmon River spring/summer Chinook, while sustaining overall populations of fish for their economic and cultural value, including long-term harvest opportunities.

The Tribes proposed prject includes the Crystal Springs Hatchery, the Yankee Fork weir, and the Panther Creek weir. Construction of the hatchery would include a hatchery building (for administrative offices, incubation and rearing, and water treatment), outdoor rearing facilities, a shop building (for vehicle, equipment, and feed storage), an effluent control area, two new wells (to improve water temperatures and water quality from existing water sources), and staff housing.

Construction of the Yankee Fork weir would include construction of a bridge-supported bar-rack weir system, a fish ladder, broodstock and juvenile acclimation facilities, a spawning and egg take area, a staff working area, and realignment of a section of Yankee Fork Road.

Construction of the Panther Creek weir, would include construction of a bridge supported bar-rack weir system, a fish ladder, and broodstock and juvenile acclimation facilities.

The proposed hatchery would produce up to 1,000,000 yearling spring/summer Chinook smolts. Project operations would include collection of adult spring/summer Chinook for broodstock from the Sawtooth and Pahsimeroi hatcheries located in Custer and Lemhi counties, Idaho; incubation and rearing of juvenile spring/summer Chinook; and release of 400,000 smolts into Panther Creek and 600,000 smolts into Yankee Fork of the Salmon River in Idaho.

Once returning populations reach approximately 500-1,000 fish annually at each weir location, hatchery broodstock collection would cease and instead, harvest of approximately 800 adult Chinook would be allowed annually at the Panther Creek weir for broodstock and 1,000 adult spring/summer Chinook collected annually at the Yankee Fork weir for broodstock with excess adults allowed to pass the trap and return to key upriver habitat to spawn naturally. The Tribes' project would also contribute to the conservation and recovery of the Snake River spring/summer Chinook ESU by restoring a population of 500 locally adapted Chinook spawners in the Yankee Fork and 500 spawners in Panther Creek (a total of 1,000 fish). The tribe would implement a monitoring and evaluation program to determine if harvest and conservation and recovery objectives are being achieved, ensure that hatchery culture practices meet identified standards, quantify hatchery fish migration performance, document hatchery‐origin adult stray rates to other out‐of‐basin streams, and track natural fish population abundance, productivity, life history diversity and spatial structure.

BPA will be the lead agency for preparation of the EIS. The USFS will be a cooperating agency and will assist BPA in evaluating alternatives and identifying issues that should be addressed in the EIS. The USFS could use the EIS to support a decision of whether to grant Special Use Permits to the Tribes and to identify what terms and conditions would be necessary if the Special Use Permits were granted. Additional cooperating agencies for the EIS may be identified as the proposed project proceeds through the NEPA process.

Alternatives Proposed for Consideration: In the EIS, BPA is considering the following alternatives: to fund the proposed hatchery and weir facilities; to fund the hatchery only; a No Action Alternative of not funding the proposal; and other viable alternatives brought forth during the scoping process.

Public Participation and Identification of Environmental Issues: The potential environmental issues identified so far for this project include effects of hatchery operations on water quality; the risk of competition for habitat between increasing numbers of reintroduced spring/summer Chinook and ESA-listed fish such as bull trout; the potential for adult spring/summer Chinook collection activities to affect other fish; potential effects on soil, aesthetics, and water quality due to the construction of permanent facilities and the relocation of Yankee Fork Road on USFS land; and the social, cultural, and economic effects of project construction and operations, as well as harvest.

In accordance with DOE regulations, a 45-day scoping period has been established by BPA, and supported by the USFS, during which the public is invited to comment on the scope of the proposed EIS. Scoping will help BPA and the USFS ensure they identify significant issues and develop alternatives in the EIS, and identify significant or potentially significant impacts that may result from the proposed project and alternatives.

When completed, the Draft EIS will be circulated for review and comment, and BPA and the USFS will hold at least one public comment meeting for the Draft EIS. BPA, in coordination with the USFS and the Tribes, will consider and respond in the Final EIS to comments received on the Draft EIS. BPA and the USFS will each issue their own decision documents.

Issued in Portland, Oregon on May 15, 2014.
Mark O. Gendron,
Acting Administrator and Chief Executive Officer.

[FR Doc. 2014-11994 Filed 5-23-14; 8:45 am]

BILLING CODE 6450-01-P